DEPARTMENT OF HEALTH AND HUMAN SERVICES

Centers for Disease Control and Prevention

National Institute for Occupational Safety and Health Advisory Board on Radiation and Worker Health

In accordance with section 10(a)(2) of the Federal Advisory Committee Act (Pub. L. 92-463), the Centers for Disease Control and Prevention (CDC) announces the following committee meeting:

Name: Advisory Board on Radiation and Worker Health (ABRWH), National Institute for Occupational Safety and Health (NIOSH) and Subcommittee for Dose Reconstruction and Site Profile Reviews.

Subcommittee Meeting Time and Date:

8 a.m.-11:30 a.m., April 25, 2005.

Committee Meeting Times and Dates:

1 p.m.-6:15 p.m., April 25, 2005.

8 a.m.-5:15 p.m., April 26, 2005.

7 p.m.-8:30 p.m., April 26, 2005.

8 a.m.-5:30 p.m., April 27, 2005.

Place: Crowne Plaza Five Seasons Hotel, 350 1st Avenue Northeast, Cedar Rapids, Iowa 52401, telephone (319) 363-8161, fax (319) 363-3804.

Status: Open to the public, limited only by the space available. The meeting space accommodates approximately 200 people.

Background: The ABRWH was established under the Energy Employees Occupational Illness Compensation Program Act (EEOICPA) of 2000 to advise the President, delegated to the Secretary of Health and Human Services (HHS), on a variety of policy and technical functions required to implement and effectively manage the new compensation program. Key functions of the Board include providing advice on the development of probability of causation guidelines which have been promulgated by HHS as a final rule, advice on methods of dose reconstruction which have also been promulgated by HHS as a final rule, advice on the scientific validity and quality of dose estimation and reconstruction efforts being performed for purposes of the compensation program, and advice on petitions to add classes of workers to the Special Exposure Cohort (SEC). In December 2000, the President delegated responsibility for funding, staffing, and operating the Board to HHS, which subsequently delegated this authority to the CDC. NIOSH implements this responsibility for CDC. The charter was issued on August 3, 2001, and renewed on August 3, 2003.

Purpose: This board is charged with (a) Providing advice to the Secretary, HHS, on the development of guidelines under Executive Order 13179; (b) providing advice to the Secretary, HHS on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Matters to be Discussed: Agenda for this meeting will focus on Review of the Draft Minutes; Iowa Army Ammunition Plant Technical Basis Document and Special Exposure Cohort (SEC) Petition; Mallinckrodt (Destrehan Street Facility) Technical Basis Document and SEC Petition; Program updates by NIOSH and DOL; Future Schedule; Policy Concerning Data Integrity; Board Operating Procedures; Discussion of first 20 Dose Reconstruction Reviews; SEC Task for SC&A, Inc.; and SC&A, Inc. Contract Update Status. There will be an evening public comment period scheduled for April 26, 2005 and general public comment periods during the day on April 25th and 27th.

The Subcommittee will convene on April 25, 2005, from 8 a.m.-11:30 a.m. and will focus on review of draft minutes; Report on the Review of the First 20 Dose Reconstructions; the process to accomplish review of SC&A Task III Report; Status Report of On-Going Activities and Future Schedule; as well as Comments by Members of Congress.

The agenda is subject to change as priorities dictate.

In the event an individual cannot attend, written comments may be submitted. Any written comments received will be provided at the meeting and should be submitted to the contact person below well in advance of the meeting.

Contact Person for More Information: Dr. Lewis V. Wade, Executive Secretary, NIOSH, CDC, 4676 Columbia Parkway, Cincinnati, Ohio 45226, telephone (513) 533-6825, fax (513) 533-6826.

This notice is being published less than 15 days prior to the meeting due to the unexpected urgency of the topics that will be discussed.

The Director, Management Analysis and Services Office, has been delegated the authority to sign Federal Register notices pertaining to announcements of meetings and other committee management activities for both CDC and the Agency for Toxic Substances and Disease Registry.

Dated: April 18, 2005.
Alvin Hall,
Director, Management Analysis and Services Office, Centers for Disease Control and Prevention.

[FR Doc. 05-8088 Filed 4-19-05; 12:27 pm]

BILLING CODE 4163-19-P